NATIONAL SCIENCE FOUNDATION

Advisory Committee for Small Business Industrial Innovation; Notice of Meeting

In accordance with the Federal Advisory Committee Act (Pub. L. 92-463, as amended), the National Science Foundation announces the following meeting:

Name: Advisory Committee for Small Business Industrial Innovation (SBIR)—(61).

Date and Time: January 7, 2004, 2 p.m.-6 p.m.

Type of Meeting: Open.

Place: Wyndham Anatole Hotel, Dallas, TX. DMII National Conference.

Contact Person: Kesh Narayanan, Director, Small Business Innovation Research and Small Business Technology Transfer Programs, Room 590, Division of Design, Manufacturing, and Industrial Innovation (703) 292-7076, National Science Foundation, 4201 Wilson Boulevard, Arlington, VA 22230.

Minutes: May be obtained from the contact person listed above.

Purpose of Committee: To provide advice and recommendations concerning research programs pertaining to the small business community.

Agenda: January 7, 2004,

2 p.m.—Welcome

2:15 p.m.—Introductions

2:30 p.m.—SBIR/STTR Program Overview

5:15 p.m.—Open Discussion

6 p.m.—Adjourn

Dated: December 11, 2003.
Susanne Bolton,
Committee Management Officer.

[FR Doc. 03-31012 Filed 12-15-03; 8:45 am]

BILLING CODE 7555-01-M